DEPARTMENT OF THE TREASURY

Submission for OMB Review; Comment Request

November 23, 2011.

The Department of the Treasury will submit the following information collection request to the Office of Management and Budget (OMB) for review and clearance in accordance with the Paperwork Reduction Act of 1995, Public Law 104-13, on or after the date of publication of this notice.

DATES: Comments should be received on or before December 29, 2011 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 11020, Washington, DC 20220, or on-line at http://www.PRAComment.gov.

FOR FURTHER INFORMATION CONTACT: Copies of the submission(s) may be obtained by calling (202) 927-5331, email at PRA@treasury.gov, or the entire information collection request may be found at http://www.reginfo.gov.

Small Business Lending Fund (SBLF)

OMB Number: 1505-0228.

Type of Review: Revision a currently approved collection.

Title: Requirement to report quarterly data on Small Business Lending.

Abstract: Once accepted into the SBLF program, a bank is required to submit a Supplemental Report each quarter. The Supplemental Report serves two purposes. First, the Quarterly Supplemental Report is used to determine the bank's small business lending baseline. Second, every quarter thereafter, the bank files a Supplemental Report quarterly so that Treasury can assess the change in the small business lending for the previous quarter. That change from the historical baseline is used to set the dividend rate for the next quarter.

Affected Public: Banks and lending institutions that were approved by Treasury to participate in the Small Business Lending Fund.

Estimated Total Annual Burden Hours: 5,600.

Dawn D. Wolfgang,
Treasury PRA Clearance Officer.

[FR Doc. 2011-30718 Filed 11-28-11; 8:45 am]

BILLING CODE 4810-25-P